DEPARTMENT OF JUSTICE

Notice of Lodging of Proposed Consent Decree

In accordance with Departmental Policy, 28 CFR 50.7, notice is hereby given that a proposed Consent Decree in United States v. Town of Ramapo, New York, Civil Action No. 7:14-cv-01888-NSR, was lodged with the United States District Court for the Southern District of New York on March 18, 2014.

This proposed Consent Decree concerns a complaint filed by the United States against Defendant Town of Ramapo, New York, pursuant to Sections 301(a) and 404 of the Clean Water Act, 33 U.S.C. 1311(a), 1344(s), to obtain injunctive relief from and impose civil penalties against the Defendant for violating the Clean Water Act by discharging pollutants without a permit into waters of the United States and by failing to adhere to the conditions of a permit issued under 33 U.S.C. 1344(s). The proposed Consent Decree resolves these allegations by requiring the Defendant to perform mitigation and to pay a civil penalty.

The Department of Justice will accept written comments relating to this proposed Consent Decree for thirty (30) days from the date of publication of this Notice. Please address comments to Assistant United States Attorney Andrew E. Krause, United States Attorney's Office, Southern District of New York, 86 Chambers Street, 3rd Floor, New York, NY 10007, and refer to United States v. Town of Ramapo, New York, USAO No. 2013V00629.

The proposed Consent Decree may be examined at the Clerk's Office of the United States District Court for the Southern District of New York, The Hon. Charles L. Brieant Jr. Federal Building and Courthouse, 300 Quarropas Street, White Plains, NY 10601-4150. In addition, the proposed Consent Decree may be examined electronically at http://www.justice.gov/enrd/Consent_Decrees.html.

Cherie L. Rogers,
Assistant Section Chief, Environmental Defense Section, Environment and Natural Resources Division.

[FR Doc. 2014-06613 Filed 3-25-14; 8:45 am]

BILLING CODE P